DEPARTMENT OF JUSTICE

Drug Enforcement Administration

[Docket No. DEA-688F]

Final Adjusted Aggregate Production Quotas for Schedule I and II Controlled Substances and Assessment of Annual Needs for the List I Chemicals Ephedrine, Pseudoephedrine, and Phenylpropanolamine for 2021

AGENCY: Drug Enforcement Administration, Department of Justice.

ACTION: Final order.

SUMMARY: This final order establishes the final adjusted 2021 aggregate production quotas for controlled substances in schedules I and II of the Controlled Substances Act and the assessment of annual needs for the list I chemicals ephedrine, pseudoephedrine, and phenylpropanolamine.

DATES: This order is effective November 15, 2021.

FOR FURTHER INFORMATION CONTACT: Scott A. Brinks, Regulatory Drafting and Policy Support Section, Diversion Control Division, Drug Enforcement Administration; Mailing Address: 8701 Morrissette Drive, Springfield, VA 22152, Telephone: (571) 362-3261.

SUPPLEMENTARY INFORMATION:

Legal Authority

Section 306 of the Controlled Substances Act (CSA) (21 U.S.C. 826) requires the Attorney General to establish aggregate production quotas (APQ) for each basic class of controlled substances listed in schedules I and II and for the list I chemicals ephedrine, pseudoephedrine, and phenylpropanolamine. The Attorney General has delegated this function to the Administrator of the Drug Enforcement Administration (DEA) pursuant to 28 CFR 0.100.

Background

DEA published the 2021 established APQ for controlled substances in schedules I and II and for the assessment of annual needs (AAN) for the list I chemicals ephedrine, pseudoephedrine, and phenylpropanolamine in the Federal Register on November 30, 2020. 85 FR 76604. DEA is committed to preventing and limiting diversion by enforcing laws and regulations regarding controlled substances and the list I chemicals ephedrine, pseudoephedrine, and phenylpropanolamine, while meeting the legitimate medical, scientific, and export needs of the United States. This notice stated that the Administrator would adjust, as needed, the established APQ in 2021 in accordance with 21 CFR 1303.13 and 21 CFR 1315.13.

The 2021 proposed adjusted APQ for controlled substances in schedules I and II and AAN for the list I chemicals ephedrine, pseudoephedrine, and phenylpropanolamine were subsequently published in the Federal Register on September 2, 2021, (86 FR 49346), after consideration of the criteria outlined in that notice. All interested persons were invited to comment on or object to the proposed APQs and AANs on or before October 4, 2021.

Comments Received

DEA received 27 timely comments in response to the September Federal Register notice from patients, DEA-registered entities, and non-DEA entities. The comments included appreciation of DEA's response to the increased interest in research using hallucinogenic controlled substances, requests to increase the APQ for additional hallucinogenic controlled substances, requests to increase the APQ for select schedule II controlled substances, concerns regarding the inability to comment to the notice electronically for two weeks, and comments outside the scope of this final order.

Issue: Commenters expressed appreciation of DEA's flexibility in responding to the nationwide public interest in hallucinogenic controlled substances research.

DEA Response: DEA acknowledges the expressions of appreciation to changes in the APQ for these controlled substances. The adjustments to select hallucinogenic schedule I controlled substances occurred after DEA received additional schedule I researcher protocols from DEA registered researchers and quota applications from DEA registered manufacturers.

Issue: Commenters requested DEA to increase the APQ for Bufotenine, Dimethyltryptamine (DMT), N,N-Dimethyltryptamine, 5-Methoxy-N,N-dimethyltryptamine (5MEODMT), Ibogaine, Ketamine, Lysergic Acid Diethylamide (LSD), 3,4-Methylenedioxymethamphetamine (MDMA), Mescaline, Mitragynine, and Psilocybin in response to the nationwide public interest in hallucinogenic controlled substances research.

DEA Response: Ketamine is a schedule III controlled substance and therefore is outside of the scope of this final order as DEA only sets APQs for substances controlled in schedules I and II. DEA received additional quota applications for DMT, MDMA, and Psilocybin and considered the timely provided information in those applications for this final order. Regarding the other controlled substances listed, DEA has not received quota applications from DEA-registered manufacturers to support the requested changes in the APQ for these controlled substances. Mitragynine is not a controlled substance and therefore is outside the scope of this final order.

Issue: DEA-registered entities requested that the APQ for Methadone, Methadone Intermediate, Methylphenidate Oxycodone (for sale), Phenylacetone, and Thebaine be sufficient to provide for the estimated medical, scientific, research, and industrial needs of the United States, for export requirements, and for the establishment and maintenance of reserve stocks.

DEA Response: DEA sets APQ in a manner to ensure that the estimated medical, scientific, research, industrial needs of the United States, lawful export requirements, and for the establishment and maintenance of reserve stocks. As discussed in the notice for adjustment, any adjustments to the APQ for a controlled substance are based on factors set forth in 21 CFR 1303.13. In the event of a shortage, the CSA provides a mechanism under which DEA will, in appropriate circumstances, increase quotas to address shortages. 21 U.S.C. 826(h). Under 21 U.S.C. 826(h)(1), after receiving a request to address a shortage, DEA has 30 days to complete review of the request and determine whether adjustments are necessary to address the shortage. If adjustments are necessary, DEA is required to increase the APQ and individual production quotas to alleviate the shortage. Id. If DEA determines adjustments are not necessary, DEA is required to “provide a written response detailing the basis for the . . . determination.” Id. In addition to what Section 826(h)(1) requires, when DEA is notified of an alleged shortage, DEA will confer with the Food and Drug Administration and relevant manufacturers regarding the amount of material in physical inventory, current quota granted, and the estimated legitimate medical need, to determine whether a quota adjustment is necessary to alleviate any quota-related drug shortage.

In accordance with 21 CFR 1303.13, DEA considered the comments for Bufotenine, 5-Methoxy-N,N-dimethyltryptamine (5MEODMT), Ibogaine, Lysergic Acid Diethylamide (LSD), Mescaline, Methadone, Methadone Intermediate, Oxycodone (for sale), and Thebaine and the Administrator determined the proposed adjusted 2021 APQs for these substances as published in the Federal Register on September 2, 2021, (86 FR 49346), are sufficient to meet the current 2021 estimated medical, scientific, research, and industrial needs of the United States, lawful export requirements, and to provide for adequate reserve stock.

Issue: Commenters expressed general concerns regarding the inability to submit electronic comments to the notice published on September 2, 2021, for two weeks. Commenters requested an extension of the comment period to allow for additional comments.

DEA Response: DEA acknowledges that commenters could not submit electronic comments to the notice for two weeks. However, written comments could be submitted via mail to the address provided in the notice. Written comments that were postmarked on or before October 4, 2021, were considered in this final order. DEA notes that one commenter submitted identical electronic and written comments both of which were timely postmarked, received, and considered for this final order.

Out of Scope Comments: DEA received comments on issues outside the scope of this final order. Commenters made several suggestions to the DEA, including: (1) Seeking assistance from indigenous communities to determine the amount of psychedelic substances that would be needed to conduct research; (2) making the United States a signatory to the Nagoya Protocol and the Convention on Biological Diversity; and (3) creating diversified categories for production and research on psilocybin-containing fungi fruiting bodies/sclerotia/liquid culture similar to cannabis (flower), fruiting body extract (akin to cannabis extract), and psilocybin and psilocin separately as purified compounds (akin to delta-9-thc). Regarding this last suggestion, the commenter further suggested that the “same system should then be replicated in regards to lophophora/mescaline, as well as other plants, fungi and lifeforms, which produce these compounds being used in whole or closer to whole ways.”

DEA received other comments that were general in nature and raised issues of specific medical illnesses and medical treatments. All of the issues raised are outside of the scope of this final order for 2021 and do not impact the original analysis involved in finalizing the 2021 APQ.

Analysis for Final Adjusted 2021 Aggregate Production Quotas and Assessment of Annual Needs

In determining the final adjusted 2021 APQ and AAN, DEA considered the above comments relevant to this final order for calendar year 2021, along with the factors set forth in 21 CFR 1303.13 and 21 CFR 1315.13, in accordance with 21 U.S.C. 826(a). DEA has also considered other relevant factors, including the 2020 year-end inventories, initial 2021 manufacturing and import quotas, 2021 export requirements, actual and projected 2021 sales, research and product development requirements, additional applications received, and the extent of any diversion of the controlled substance in the class. Based on all of the above, the Administrator is adjusting the 2021 APQ for the following: 3,4-Methylenedioxymethamphetamine (MDMA), 4,4′-Dimethylaminorex, Dimethyltryptamine (DMT), Lisdexamfetamine, Methiopropamine, Psilocybin, Psilocyn, and Phenylacetone. This final order reflects those adjustments.

Pursuant to the above, the Administrator hereby finalizes the 2021 APQ for the following schedule I and II controlled substances and the 2021 AAN for the list I chemicals ephedrine, pseudoephedrine, and phenylpropanolamine, expressed in grams of anhydrous acid or base, as follows:

Basic class | Final adjusted 2021 quotas: (g)
Schedule I
1-[1-(2-Thienyl)cyclohexyl]pyrrolidine | 20
1-(1-Phenylcyclohexyl)pyrrolidine | 30
1-(2-Phenylethyl)-4-phenyl-4-acetoxypiperidine | 10
1-(5-Fluoropentyl)-3-(1-naphthoyl)indole (AM2201) | 30
1-(5-Fluoropentyl)-3-(2-iodobenzoyl)indole (AM694) | 30
1-Benzylpiperazine | 25
1-Methyl-4-phenyl-4-propionoxypiperidine | 10
1-[1-(2-Thienyl)cyclohexyl]piperidine | 15
2'-fluoro 2-fluorofentanyl | 30
2-(2,5-Dimethoxy-4-ethylphenyl)ethanamine (2C-E) | 30
2-(2,5-Dimethoxy-4-methylphenyl)ethanamine (2C-D) | 30
2-(2,5-Dimethoxy-4-nitro-phenyl)ethanamine (2C-N) | 30
2-(2,5-Dimethoxy-4-n-propylphenyl)ethanamine (2C-P) | 30
2-(2,5-Dimethoxyphenyl)ethanamine (2C-H) | 100
2-(4-Bromo-2,5-dimethoxyphenyl)-N-(2-methoxybenzyl)ethanamine (25B-NBOMe; 2C-B-NBOMe; 25B; Cimbi-36) | 30
2-(4-Chloro-2,5-dimethoxyphenyl)ethanamine (2C-C) | 30
2-(4-Chloro-2,5-dimethoxyphenyl)-N-(2-methoxybenzyl)ethanamine (25C-NBOMe; 2C-C-NBOMe; 25C; Cimbi-82) | 25
2-(4-Iodo-2,5-dimethoxyphenyl)ethanamine (2C-I) | 30
2-(4-Iodo-2,5-dimethoxyphenyl)-N-(2-methoxybenzyl)ethanamine (25I-NBOMe; 2C-I-NBOMe; 25I; Cimbi-5) | 30
2,5-Dimethoxy-4-ethylamphetamine (DOET) | 25
2,5-Dimethoxy-4-n-propylthiophenethylamine | 25
2,5-Dimethoxyamphetamine (DMA) | 25
2-[4-(Ethylthio)-2,5-dimethoxyphenyl]ethanamine (2C-T-2) | 30
2-[4-(Isopropylthio)-2,5-dimethoxyphenyl]ethanamine (2C-T-4) | 30
3,4,5-Trimethoxyamphetamine | 30
3,4-Methylenedioxyamphetamine (MDA) | 55
3,4-Methylenedioxymethamphetamine (MDMA) | 3,200
3,4-Methylenedioxy-N-ethylamphetamine (MDEA) | 40
3,4-Methylenedioxy-N-methylcathinone (methylone) | 40
3,4-Methylenedioxypyrovalerone (MDPV) | 35
3-FMC; 3-Fluoro-N-methylcathinone | 25
3-Methylfentanyl | 30
3-Methylthiofentanyl | 30
4′-Methyl acetyl fentanyl | 30
4,4'-Dimethylaminorex | 30
4-Bromo-2,5-dimethoxyamphetamine (DOB) | 30
4-Bromo-2,5-dimethoxyphenethylamine (2-CB) | 25
4-Chloro-α-pyrrolidinovalerophenone (4-chloro-alpha-PVP) | 25
4CN-Cumyl-Butanica, 1-(4-Cyanobutyl)-N-(2-phenylpropan-2-yl)-1H-indazole-3-carboximide | 25
4F-MDMB-BINACA | 30
4-Fluoroisobutyryl fentanyl | 30
4-FMC; Flephedrone | 25
4-MEC; 4-Methyl-N-ethylcathinone | 25
4-Methoxyamphetamine | 150
4-Methyl-2,5-dimethoxyamphetamine (DOM) | 25
4-Methylaminorex | 25
4-Methyl-N-methylcathinone (mephedrone) | 45
4-Methyl-α-ethylaminopentiophenone (4-MEAP) | 25
4-Methyl-α-pyrrolidinohexiophenone (MPHP) | 25
4-Methyl-α-pyrrolidinopropiophenone (4-MePPP) | 25
5-(1,1-Dimethylheptyl)-2-[(1R,3S)-3-hydroxycyclohexyl]-phenol | 50
5-(1,1-Dimethyloctyl)-2-[(1R,3S)-3-hydroxycyclohexyl]-phenol (cannabicyclohexanol or CP-47,497 C8-homolog) | 40
5F-CUMYL-PINACA | 25
5F-EDMB-PINACA | 25
5F-MDMB-PICA | 25
5F-AB-PINACA; N-(1-amino-3-methyl-1-oxobutan-2-yl)-1-(5-fluoropentyl)-1H-indazole-3-carboxamide | 25
5F-CUMYL-P7AICA; (1-(5-fluoropentyl)-N-(2-phenylpropan-2-yl)-1H-pyrrolo[2,3-b]pyridine-3-carboximide) | 25
5F-ADB; 5F-MDMB-PINACA (methyl 2-(1-(5-fluoropentyl)-1H-indazole-3-carboxamido)-3,3-dimethylbutanoate) | 30
5F-AMB (methyl 2-(1-(5-fluoropentyl)-1H-indazole-3-carboxamido)-3-methylbutanoate) | 30
5F-APINACA; 5F-AKB48 (N-(adamantan-1-yl)-1-(5-fluoropentyl)-1H-indazole-3-carboxamide) | 30
5-Fluoro-PB-22; 5F-PB-22 | 20
5-Fluoro-UR144, XLR11 ([1-(5-fluoro-pentyl)-1H-indol- 3-yl](2,2,3,3-tetramethylcyclopropyl)methanone | 25
5-Methoxy-3,4-methylenedioxyamphetamine | 25
5-Methoxy-N,N-diisopropyltryptamine | 25
5-Methoxy-N,N-dimethyltryptamine | 35
AB-CHMINACA | 30
AB-FUBINACA | 50
AB-PINACA | 30
ADB-FUBINACA (N-(1-amino-3,3-dimethyl-1-oxobutan-2-yl)-1-(4-fluorobenzyl)-1H-indazole-3-carboxamide) | 30
Acetorphine | 25
Acetyl Fentanyl | 100
Acetyl-alpha-methylfentanyl | 30
Acetyldihydrocodeine | 30
Acetylmethadol | 25
Acryl Fentanyl | 25
ADB-PINACA (N-(1-amino-3,3-dimethyl-1-oxobutan-2-yl)-1-pentyl-1H-indazole-3-carboxamide) | 50
AH-7921 | 30
All other tetrahydrocannabinol | 1,000
Allylprodine | 25
Alphacetylmethadol | 25
alpha-Ethyltryptamine | 25
Alphameprodine | 25
Alphamethadol | 25
Alphaprodine | 25
alpha-Methylfentanyl | 30
alpha-Methylthiofentanyl | 30
alpha-Methyltryptamine (AMT) | 25
alpha-Pyrrolidinobutiophenone (α-PBP) | 25
alpha-Pyrrolidinoheptaphenone (PV8) | 25
alpha-Pyrrolidinohexanophenone (α-PHP) | 25
alpha-Pyrrolidinopentiophenone (α-PVP) | 25
Aminorex | 25
Anileridine | 20
APINCA, AKB48 (N-(1-adamantyl)-1-pentyl-1H-indazole-3-carboxamide) | 25
Benzethidine | 25
Benzylmorphine | 30
Betacetylmethadol | 25
beta-Hydroxy-3-methylfentanyl | 30
beta-Hydroxyfentanyl | 30
beta-Hydroxythiofentanyl | 30
beta-Methyl fentanyl | 30
beta-Phenyl fentanyl | 30
Betameprodine | 25
Betamethadol | 4
Betaprodine | 25
Brorphine | 30
Bufotenine | 15
Butylone | 25
Butyryl fentanyl | 30
Cathinone | 40
Clonitazene | 25
Codeine methylbromide | 30
Codeine-N-oxide | 192
Cyclopentyl Fentanyl | 30
Cyclopropyl Fentanyl | 20
Cyprenorphine | 25
d-9-THC | 384,460
Desomorphine | 25
Dextromoramide | 25
Diapromide | 20
Diethylthiambutene | 20
Diethyltryptamine | 25
Difenoxin | 9,200
Dihydromorphine | 753,500
Dimenoxadol | 25
Dimepheptanol | 25
Dimethylthiambutene | 20
Dimethyltryptamine | 3,200
Dioxyaphetyl butyrate | 25
Dipipanone | 25
Drotebanol | 25
Ethylmethylthiambutene | 25
Etorphine | 30
Etoxeridine | 25
Fenethylline | 30
Fentanyl carbamate | 30
Fentanyl related substances | 600
FUB-144 | 25
FUB-AKB48 | 25
FUB-AMB, MMB-Fubinaca, AMB-Fubinaca | 25
Furanyl fentanyl | 30
Furethidine | 25
gamma-Hydroxybutyric acid | 29,417,000
Heroin | 45
Hydromorphinol | 40
Hydroxypethidine | 25
Ibogaine | 30
Isobutyryl Fentanyl | 25
JWH-018 and AM678 (1-Pentyl-3-(1-naphthoyl)indole) | 35
JWH-019 (1-Hexyl-3-(1-naphthoyl)indole) | 45
JWH-073 (1-Butyl-3-(1-naphthoyl)indole) | 45
JWH-081 (1-Pentyl-3-[1-(4-methoxynaphthoyl)]indole) | 30
JWH-122 (1-Pentyl-3-(4-methyl-1-naphthoyl)indole) | 30
JWH-200 (1-[2-(4-Morpholinyl)ethyl]-3-(1-naphthoyl)indole) | 35
JWH-203 (1-Pentyl-3-(2-chlorophenylacetyl)indole) | 30
JWH-250 (1-Pentyl-3-(2-methoxyphenylacetyl)indole) | 30
JWH-398 (1-Pentyl-3-(4-chloro-1-naphthoyl)indole) | 30
Ketobemidone | 30
Levomoramide | 25
Levophenacylmorphan | 25
Lysergic acid diethylamide (LSD) | 40
MAB-CHMINACA; ADB-CHMINACA (N-(1-amino-3,3-dimethyl-1-oxobutan-2-yl)-1-(cyclohexylmethyl)-1H-indazole-3-carboxamide) | 30
MDMB-CHMICA; MMB-CHMINACA(methyl 2-(1-(cyclohexylmethyl)-1H-indole-3-carboxamido)-3,3-dimethylbutanoate) | 30
MDMB-FUBINACA (methyl 2-(1-(4-fluorobenzyl)-1H-indazole-3-carboxamido)-3,3-dimethylbutanoate) | 30
MMB-CHMICA-(AMB-CHMICA); Methyl-2-(1-(cyclohexylmethyl)-1H-indole-3-carboxamido)-3-methylbutanoate | 25
Marihuana | 2,000,000
Marihuana extract | 500,000
Mecloqualone | 30
Mescaline | 25
Methaqualone | 60
Methcathinone | 25
Methiopropamine | 30
Methyoxyacetyl fentanyl | 30
Methyldesorphine | 5
Methyldihydromorphine | 25
Morpheridine | 25
Morphine methylbromide | 5
Morphine methylsulfonate | 5
Morphine-N-oxide | 150
MT-45 | 30
Myrophine | 25
NM2201; Naphthalen-1-yl 1-(5-fluoropentyl)-1H-indole-3-carboxylate | 25
N,N-Dimethylamphetamine | 25
Naphyrone | 25
N-Ethyl-1-phenylcyclohexylamine | 25
N-Ethyl-3-piperidyl benzilate | 10
N-Ethylamphetamine | 24
N-Ethylhexedrone | 25
N-Ethylpentylone, ephylone | 30
N-Hydroxy-3,4-methylenedioxyamphetamine | 24
N-Methyl-3-Piperidyl Benzilate | 30
Nicocodeine | 25
Nicomorphine | 25
Noracymethadol | 25
Norlevorphanol | 2,550
Normethadone | 25
Normorphine | 40
Norpipanone | 25
Ocfentanil | 25
Ortho-fluorofentanyl, 2-fluorofentanyl | 30
ortho-Fluoroacryl fentanyl | 30
ortho-Fluorobutyryl fentanyl | 30
ortho-Fluoroisobutyryl fentanyl | 30
ortho-Methyl acetylfentanyl | 30
ortho-Methyl methoxyacetyl fentanyl | 30
Para-chloroisobutyryl fentanyl | 30
Para-fluorofentanyl | 25
Para-fluorobutyryl fentanyl | 25
para-Fluoro furanyl fentanyl | 30
para-Methylfentanyl | 30
Para-methoxybutyryl fentanyl | 30
Parahexyl | 5
PB-22; QUPIC | 20
Pentedrone | 25
Pentylone | 25
Phenadoxone | 25
Phenampromide | 25
Phenomorphan | 25
Phenoperidine | 25
Phenyl fentanyl | 30
Pholcodine | 5
Piritramide | 25
Proheptazine | 25
Properidine | 25
Propiram | 25
Psilocybin | 6,000
Psilocyn | 3,500
Racemoramide | 25
SR-18 and RCS-8 (1-Cyclohexylethyl-3-(2-methoxyphenylacetyl)indole) | 45
SR-19 and RCS-4 (1-Pentyl-3-[(4-methoxy)-benzoyl]indole) | 30
Tetrahydrofuranyl fentanyl | 15
Thebacon | 25
Thiafentanil | 25
Thiofentanyl | 25
Thiofuranyl fentanyl | 30
THJ-2201 ( [1-(5-fluoropentyl)-1H-indazol-3-yl](naphthalen-1-yl)methanone) | 30
Tilidine | 25
Trimeperidine | 25
UR-144 (1-pentyl-1H-indol-3-yl)(2,2,3,3-tetramethylcyclopropyl)methanone | 25
U-47700 | 30
Valeryl fentanyl | 25
Schedule II
1-Phenylcyclohexylamine | 15
1-Piperidinocyclohexanecarbonitrile | 25
4-Anilino-N-phenethyl-4-piperidine (ANPP) | 937,758
Alfentanil | 3,260
Alphaprodine | 25
Amobarbital | 20,100
Bezitramide | 25
Carfentanil | 20
Cocaine | 68,576
Codeine (for conversion) | 1,612,500
Codeine (for sale) | 27,616,684
D-amphetamine (for sale) | 21,200,000
D,l-amphetamine | 21,200,000
D-amphetamine (for conversion) | 16,068,789
Dextropropoxyphene | 35
Dihydrocodeine | 156,713
Dihydroetorphine | 25
Diphenoxylate (for conversion) | 14,100
Diphenoxylate (for sale) | 770,800
Ecgonine | 68,576
Ethylmorphine | 30
Etorphine hydrochloride | 32
Fentanyl | 731,452
Glutethimide | 25
Hydrocodone (for conversion) | 1,250
Hydrocodone (for sale) | 30,821,224
Hydromorphone | 2,743,101
Isomethadone | 30
L-amphetamine | 30
Levo-alphacetylmethadol (LAAM) | 25
Levomethorphan | 30
Levorphanol | 26,495
Lisdexamfetamine | 22,500,000
L-methamphetamine | 587,229
Meperidine | 856,695
Meperidine Intermediate-A | 30
Meperidine Intermediate-B | 30
Meperidine Intermediate-C | 30
Metazocine | 15
Methadone (for sale) | 25,619,700
Methadone Intermediate | 27,673,600
Methamphetamine | 50
D-methamphetamine (for conversion) | 485,020
D-methamphetamine (for sale) | 40,000
Methylphenidate (for conversion) | 15,300,000
Methylphenidate (for sale) | 57,438,334
Metopon | 25
Moramide-intermediate | 25
Morphine (for conversion) | 3,376,696
Morphine (for sale) | 26,505,995
Nabilone | 62,000
Norfentanyl | 25
Noroxymorphone (for conversion) | 22,044,741
Noroxymorphone (for sale) | 376,000
Oliceridine | 22,500
Opium (powder) | 250,000
Opium (tincture) | 530,837
Oripavine | 33,010,750
Oxycodone (for conversion) | 620,887
Oxycodone (for sale) | 57,110,032
Oxymorphone (for conversion) | 28,204,371
Oxymorphone (for sale) | 563,174
Pentobarbital | 30,766,670
Phenazocine | 25
Phencyclidine | 35
Phenmetrazine | 25
Phenylacetone | 6,100,000
Piminodine | 25
Racemethorphan | 5
Racemorphan | 5
Remifentanil | 3,000
Secobarbital | 172,100
Sufentanil | 4,000
Tapentadol | 13,447,541
Thebaine | 57,137,944
List I Chemicals
Ephedrine (for conversion) | 100
Ephedrine (for sale) | 4,136,000
Phenylpropanolamine (for conversion) | 14,878,320
Phenylpropanolamine (for sale) | 16,690,000
Pseudoephedrine (for conversion) | 1,000
Pseudoephedrine (for sale) | 174,246,000

The Administrator further proposes that APQ for all other schedule I and II controlled substances included in 21 CFR 1308.11 and 1308.12 remain at zero.

Anne Milgram,
Administrator.

[FR Doc. 2021-24921 Filed 11-10-21; 4:15 pm]

BILLING CODE 4410-09-P